DEPARTMENT OF HOMELAND SECURITY

Coast Guard

33 CFR Part 100

[Docket Number USCG-2024-0169]

RIN 1625-AA08

Special Local Regulation; Sail Grand Prix; Upper Bay, New York City, NY

AGENCY: Coast Guard, DHS.

ACTION: Temporary final rule.

SUMMARY: The Coast Guard is establishing a temporary special local regulation in the Upper Bay of New York Harbor in support of Sail Grand Prix 2024 from June 21, 2024, through June 23, 2024. This special local regulation is necessary to provide for the safety of life from the dangers associated with high-speed sailing during the event. This regulation will temporarily prohibit persons and vessels from entering, transiting through, blocking, or loitering within the event area unless authorized by the Captain of the Port of New York or a designated representative.

DATES: This rule is effective from 1 p.m. on June 21, 2024, through 6:30 p.m. on June 23, 2024. This rule will be enforced from 1 p.m. to 4 p.m. on June 21, 2024, and from 3:30 p.m. to 6:30 p.m. on June 22, 2024, and June 23, 2024.

ADDRESSES: To view documents mentioned in this preamble as being available in the docket, go to https://www.regulations.gov, type USCG-2024-0169 in the search box and click “Search.” Next, in the Document Type column, select “Supporting & Related Material.”

FOR FURTHER INFORMATION CONTACT: If you have questions about this rule, call or email MST1 Kathryn Veal, Waterways Management Division, U.S. Coast Guard Sector New York; telephone 718-354-4151, email Kathryn.M.Veal@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background Information and Regulatory History

On October 5, 2023, a representative of Sail Grand Prix (Sail GP) notified the Coast Guard of intentions to conduct Sail Grand Prix 2024 in the Upper Bay of New York Harbor from 1 p.m. to 4 p.m. on June 21, 2024, and from 3:30 p.m. to 6:30 p.m. on June 22, 2024, through June 23, 2024. The race will take place between Governor's Island, Ellis Island and Liberty Island in the Upper Bay and feature 50-foot foiling catamaran sailboats. In response, on April 19, 2024, the Coast Guard published a notice of proposed rulemaking (NPRM) titled Special Local Regulation; Sail Grand Prix, Upper Bay, New York City, NY (89 FR 28691). There we stated why we issued the NPRM and invited comments on our proposed regulatory action related to this race event. During the comment period that ended May 20, 2024, we received no comments.

Under 5 U.S.C. 553(d)(3), the Coast Guard finds that good cause exists for making this rule effective less than 30 days after publication in the Federal Register. Delaying the effective date of this rule would be impracticable and contrary to public interest because prompt action is needed to appropriately respond to the potential safety hazards associated with this event on June 21, 2024, through June 23, 2024.

III. Legal Authority and Need for Rule

The Coast Guard is issuing this rule under authority in 46 U.S.C. 70041. The Captain of the Port (COTP) Sector New York has determined that potential hazards associated with this event will be a safety concern for personnel and vessels on the navigable waters of the Upper Bay of New York Harbor. Due to the high-profile nature of this event, spectator vessels and support craft that will be present and have the potential to cause vessel congestion in proximity of the Anchorage Channel and Hudson River Channel. This rule is needed to protect personnel, vessels, and the marine environment from the hazards associated with the race event.

IV. Discussion of Comments, Changes, and the Rule

As noted above, we received no comments on our NPRM published April 19, 2024; however, there is one change in the regulatory text of this rule from the proposed rule in the NPRM. Statue City Cruises contacted Sail Grand Prix and requested modifications be made to the special local regulation. We reduced the size of the northwest section of the regulated area to facilitate the ease of transit and reduce vessel traffic from Battery Park to Liberty Island and Ellis Island. As a result, the starting coordinate point in the regulatory text was updated from 40°42′10.6″ N, 74°01′48.5″ W to 40°42′03.7″ N, 74°01′26.9″ W.

This rule establishes a special local regulation in the Upper Bay of New York Harbor from 1 p.m. on June 21, 2024, through 6:30 p.m. on June 23, 2024. The special local regulation will be enforced from 1 p.m. until 4 p.m. on June 21, 2024, and from 3:30 p.m. until 6:30 p.m. on June 22, 2024, and June 23, 2024. The area regulated by this special local regulation will be between Governor's Island, Ellis Island and Liberty Island and will cover all navigable waters, from surface to bottom, within the area formed by connecting the following latitude and longitude points in the following order: 40°42′03.7″ N, 74°01′26.9″ W; thence to 40°41′50.0″ N, 74°01′08.7″ W; thence to 40°41′35.6″ N 74°01′08.8″ W; thence along the shore to 40°41′02.4″ N 74°01′29.3″ W; thence to 40°40′46.9″ N 74°01′49.3″ W; thence to 40°40′49.0″ N 74°02′25.5″ W; thence to 40°41′13.3″ N 74°02′26.2″ W; thence to 40°41′31.0″ N 74°02′18.7″ W; thence to 40°41′54.6″ N 74°02′01.3″ W; thence to 40°42′03.9″ N 74°01′56.8″ W and thence back to the beginning point. Sail GP will mark the regulated area via colored visual markers and will designate a spectator area within the regulated area. The spectator area will be located on the southern end of the regulated area and will change depending upon the racecourse. The duration of the establishment of the special local regulation is intended to ensure the safety of vessels in these navigable waters during the scheduled practice and race periods. This special local regulation will temporarily restrict vessel traffic in the vicinity of Liberty Island and Ellis Island and prohibit vessels and persons not participating in the race event from entering the dedicated race area. No vessel or person will be permitted to enter the regulated area without obtaining permission from the COTP or a designated representative.

V. Regulatory Analyses

We developed this rule after considering numerous statutes and Executive Orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration, and time of day of the regulated area. Vessel traffic will be able to safely transit around this area via the Buttermilk Channel and via a transit lane west of the race area. The event will impact a small, designated area of the New York Harbor for less than 4 hours each day. Considerations were made to adjust to an earlier time for Friday June 21, 2024, to reduce impact to commuter ferries. Moreover, the Coast Guard will issue a Broadcast Notice to Mariners via VHF-FM Channel 16 about the regulation, and the rule allows vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator. Routes around the race area are present while the special local regulation is in effect.

Under section 213(a) of the Small Business Regulatory Enforcement Fairness Act of 1996 (Pub. L. 104-121), we want to assist small entities in understanding this rule. If the rule affects your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a special local regulation in the Upper Bay of New York Harbor lasting 3 hours that will limit entry to the race area without authorization from the Captain of the Port or their designated representatives. It is categorically excluded from further review under paragraph L61 of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 100

Harbors, Marine safety, Navigation (water), Reporting and recordkeeping requirements, Security measures, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T01-0169 to read as follows:

§ 100.T01-0169 Sail Grand Prix 2024, Upper Bay New York Harbor, New York City, NY.

(a) Regulated area. The regulations in this section apply to the following area: All waters of the Upper Bay of New York Harbor, from surface to bottom, encompassed by a line connecting the following points beginning at 40°42′03.7″ N, 74°01′26.9″ W; thence to 40°41′50.0″ N, 74°01′08.7″ W; thence to 40°41′35.6″ N, 74°01′08.8″ W; thence along the shore to 40°41′02.4″ N, 74°01′29.3″ W; thence to 40°40′46.9″ N, 74°01′49.3″ W; thence to 40°40′49.0″ N, 74°02′25.5″ W; thence to 40°41′13.3″ N, 74°02′26.2″ W; thence to 40°41′31.0″ N, 74°02′18.7″ W; thence to 40°41′54.6″ N, 74°02′01.3″ W; thence to 40°42′03.9″ N, 74°01′56.8″ W and thence back to the beginning point. These coordinates are based on North American Datum 83 (NAD 83).

(b) Definitions. As used in this section—

Designated representative means a Coast Guard Patrol Commander, including a Coast Guard coxswain, petty officer, or other officer operating a Coast Guard vessel and a Federal, State, and local officer designated by or assisting the Captain of the Port New York (COTP) in the enforcement of the regulations in this section.

Participant means all persons and vessels registered with the event sponsor as a participant in the race.

(c) Regulations. (1) All non-participants are prohibited from entering, transiting through, anchoring in, or remaining within the regulated area described in paragraph (a) of this section unless authorized by the Captain of the Port New York or their designated representative.

(2) To seek permission to enter, contact the COTP or the COTP's representative by VHF-FM Channel 16. Those in the regulated area must comply with all lawful orders or directions given to them by the COTP or the designated representative.

(3) The COTP will provide notice of the regulated area through advanced notice via broadcast notice to mariners and by on-scene designated representatives.

(d) Enforcement periods. This section will be enforced from 1 p.m. to 4 p.m. on June 21, 2024, and from 3:30 p.m. to 6:30 p.m. on June 22, 2024, through June 23, 2024.

Jonathan Andrechik,
Captain, U.S. Coast Guard, Captain of the Port Sector New York.

[FR Doc. 2024-13602 Filed 6-20-24; 8:45 am]

BILLING CODE 9110-04-P